DEPARTMENT OF DEFENSE

Office of the Secretary

[Docket ID DoD-2009-OS-0152]

Privacy Act of 1974; System of Records

AGENCY: Defense Threat Reduction Agency, DoD.

ACTION: Notice to amend a system of records.

SUMMARY: Defense Threat Reduction Agency is amending a system of records notices in its existing inventory of record systems subject to the Privacy Act of 1974, (5 U.S.C. 552a), as amended.

DATES: This proposed action will be effective without further notice on November 25, 2009 unless comments are received which result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: October 20, 2009.
Patricia L. Toppings,
OSD Federal Register Liaison Officer, Department of Defense.

HDTRA 010

SYSTEM NAME:

Nuclear Test Participants (August 9, 2005, 70 FR 46154).

CHANGES:

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records contained therein may specifically be disclosed outside the DoD as a routine use pursuant to 5 U.S.C. 552a(b)(3) as follows:

National Research Council and Vanderbilt University, for the purpose of conducting epidemiological studies on the effects of ionizing radiation on participants of nuclear test programs.

Department of Labor and the Department of Justice for the purpose of processing claims by individuals who allege job-related disabilities as a result of participation in nuclear test programs and for litigation actions.

Department of Energy for the purpose of identifying DOE and DOE contractor personnel who were, or may be in the future, involved in nuclear test programs; and for use in processing claims or litigation actions.

Department of Veterans Affairs for the purpose of processing claims by individuals who allege service-connected disabilities as a result of participation in nuclear test programs and for litigation actions and to conduct epidemiological studies on the effect of radiation on nuclear test participants.

Information may be released to individuals or their authorized representatives.

Veterans Advisory Board on Dose Reconstruction for the purposes of reviewing and overseeing the Department of Defense Radiation Dose Reconstruction Program. This includes the conduct of audits of dose reconstructions and decisions by the Department of Veterans Affairs (DVA) on claims for radiogenic diseases and the provision of assistance to both the DVA and the DTRA in providing information on the Program, and such other activities as authorized by the Veterans Benefits Act of 2003 (Pub. L. 108-183, section 601, Radiation Dose Reconstruction Program of Department of Defense).

The `Blanket Routine Uses' published at the beginning of DTRA's compilation of system of records notices apply to this system.”

* * * * *

NOTIFICATION PROCEDURE:

Delete entry and replace with “Individuals seeking to determine whether information about themselves is contained in this system of records should address written inquiries to the Nuclear Test Participant Review (NTPR) Program Manager, Nuclear Test Personnel Review Office, Defense Threat Reduction Agency, 8725 John J. Kingman Road, Fort Belvoir, VA 22060-6201.

Written requests for information should contain the full name and signature of the requester. For personal visits the individual should provide a military or civilian identification card.

RECORD ACCESS PROCEDURES:

Delete entry and replace with “Individuals seeking access to information about themselves contained in this system of records should address written inquiries to the NTPR Program Manager, Nuclear Test Personnel Review Office, Defense Threat Reduction Agency, 8725 John J. Kingman Road, Fort Belvoir, VA 22060-6201.

Written requests for information should contain the full name and signature of the requester. For personal visits the individual should provide a military or civilian identification card.

CONTESTING RECORD PROCEDURES:

Delete entry and replace with “The DTRA rules for accessing records, for contesting contents, and appealing initial agency determinations are published in DTRA Instruction 5400.11; 32 CFR part 318; or may be obtained from the NTPR Program Manager, Nuclear Test Personnel Review Office, Defense Threat Reduction Agency, 8725 John J. Kingman Road, Fort Belvoir, VA 22060-6201.

Written requests for information should contain the full name and signature of the requester. For personal visits the individual should provide a military or civilian identification card.”

* * * * *

HDTRA 010

SYSTEM NAME:

Nuclear Test Participants.

SYSTEM LOCATION:

Nuclear Test Personnel Review (NTPR) Office, Defense Threat Reduction Agency, 6801 Telegraph Road, Alexandria, VA 22310-3398.

CATEGORIES OF INDIVIDUALS COVERED BY THE SYSTEM:

Military and DoD civilian participants of the U.S. nuclear testing programs, military occupation forces assigned to Hiroshima or Nagasaki from August 6, 1945 to July 1, 1946, and individuals who participated in the cleanup of Enewetak Atoll.

CATEGORIES OF RECORDS IN THE SYSTEM:

Name, rank, grade, service number, Social Security Number (SSN), last known or current address, dates and extent of test participation, exposure data, unit of assignment, medical data, and documentation relative to administrative claims or civil litigation.

AUTHORITY FOR MAINTENANCE OF THE SYSTEM:

Atomic Energy Act of 1954, 42 U.S.C. 2013, Tasking Memorandum from Office of the Secretary of Defense to the Director, Defense Nuclear Agency dated 28 Jan 78, Subject: DoD Personnel Participation in Atmospheric Nuclear Weapons Testing and Military Construction Appropriations Act of 1977 (Pub. L. 94-367), DNA OPLAN 600-77, Cleanup of Enewetak Atoll, and the Radiation Exposure Compensation Act (Pub. L. 100-426, as amended by Pub. L. 100-510); and E.O. 9397 (SSN), as amended.

PURPOSE(S):

For use by agency officials and employees, or authorized contractors, and other DoD components in the preparation of the histories of nuclear test programs; to conduct scientific studies or medical follow-up programs, and to provide data or documentation relevant to the processing of administrative claims or litigation.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

National Research Council and Vanderbilt University, for the purpose of conducting epidemiological studies on the effects of ionizing radiation on participants of nuclear test programs.

Department of Labor and the Department of Justice for the purpose of processing claims by individuals who allege job-related disabilities as a result of participation in nuclear test programs and for litigation actions.

Department of Energy for the purpose of identifying DOE and DOE contractor personnel who were, or may be in the future, involved in nuclear test programs; and for use in processing claims or litigation actions.

Department of Veterans Affairs for the purpose of processing claims by individuals who allege service-connected disabilities as a result of participation in nuclear test programs and for litigation actions and to conduct epidemiological studies on the effect of radiation on nuclear test participants.

Information may be released to individuals or their authorized representatives.

Veterans Advisory Board on Dose Reconstruction for the purposes of reviewing and overseeing the Department of Defense Radiation Dose Reconstruction Program. This includes the conduct of audits of dose reconstructions and decisions by the Department of Veterans Affairs (DVA) on claims for radiogenic diseases and the provision of assistance to both the DVA and the DTRA in providing information on the Program, and such other activities as authorized by the Veterans Benefits Act of 2003 (Pub. L. 108-183, section 601, Radiation Dose Reconstruction Program of Department of Defense.

The “Blanket Routine Uses” published at the beginning of DTRA's compilation of system of records notices apply to this system.

POLICIES AND PRACTICES FOR STORING, RETRIEVING, ACCESSING, RETAINING, AND DISPOSING OF RECORDS IN THE SYSTEM:

STORAGE:

Paper records in files and on electronic storage media.

RETRIEVABILITY:

Name, Social Security Number (SSN), service number, or military ID number.

SAFEGUARDS:

Paper records are filed in folders, microfilm/fiche and computer printouts stored in area accessible only by authorized personnel. Buildings are protected by security guards and intrusion alarm systems. Magnetic tapes are stored in a vault in a controlled area within limited access facilities. Access to computer programs is controlled through software applications which require validation prior to use.

RETENTION AND DISPOSAL:

Records are retained for 75 years after termination of case. Paper and microfiche records are collected in official disposal containers (burn-bags here at Fort Belvoir, and certified records disposal containers (contract service) at NTPR's offsite contract sites). With regard to magnetic tape (or hard disk drives) bulk demagnetizers are used to clean the disks/tape before they are turned over to DTRA logistics for disposal.

SYSTEM MANAGER(S) AND ADDRESS:

NTPR Program Manager, Nuclear Test Personnel Review Office, Defense Threat Reduction Agency, 8725 John J. Kingman Road, Fort Belvoir, VA 22060-6201.

NOTIFICATION PROCEDURE:

Individuals seeking to determine whether information about themselves is contained in this system of records should address written inquiries to the NTPR Program Manager, Nuclear Test Personnel Review Office, Defense Threat Reduction Agency, 8725 John J. Kingman Road, Fort Belvoir, VA 22060-6201.

Written requests for information should contain the full name and signature of the requester. For personal visits the individual should provide a military or civilian identification card.

RECORD ACCESS PROCEDURES:

Individuals seeking access to information about themselves contained in this system of records should address written inquiries to the NTPR Program Manager, Nuclear Test Personnel Review Office, Defense Threat Reduction Agency, 8725 John J. Kingman Road, Fort Belvoir, VA 22060-6201.

Written requests for information should contain the full name and signature of the requester. For personal visits the individual should provide a military or civilian identification card.

CONTESTING RECORD PROCEDURES:

The DTRA rules for accessing records and for contesting contents and appealing initial agency determinations are published in DTRA Instruction 5400.11, DTRA Privacy Program; 32 CFR part 318; or may be obtained from the NTPR Program Manager, Nuclear Test Personnel Review Office, Defense Threat Reduction Agency, 8725 John J. Kingman Road, Fort Belvoir, VA 22060-6201.

RECORD SOURCE CATEGORIES:

Retired Military Personnel records from the National Personnel Records Center, US DTRA Form 10 from individuals voluntarily contacting DTRA or other elements of DoD or other Government Agencies by phone or mail. DoD historical records, dosimetry records and records from the Department of Energy, Department of Veterans Affairs, the Social Security Administration, the Internal Revenue Service, and the Department of Health and Human Services.

EXEMPTIONS CLAIMED FOR THE SYSTEM:

None.

[FR Doc. E9-25703 Filed 10-23-09; 8:45 am]

BILLING CODE 5001-06-P